DEPARTMENT OF JUSTICE

Federal Bureau of Investigation

Meeting of the Compact Council for the National Crime Prevention and Privacy Compact

AGENCY: Federal Bureau of Investigation, DOJ.

ACTION: Meeting notice.

SUMMARY: The purpose of this notice is to announce a meeting of the Compact Council created by the National Crime Prevention and Privacy Compact Act of 1998 (Compact). Thus far, the federal government and 19 states are parties to the Compact which governs the exchange of criminal history records for licensing, employment, and similar purposes. The Compact also provides a legal framework for the establishment of a cooperative federal-state system to exchange such records.

The United States Attorney General appointed 15 persons from federal and state agencies to serve on the Compact Council. The Council will prescribe system rules and procedures for the effective and proper operation of the Interstate Identification Index system.

Matters for discussion are expected to include:

(1) Noncriminal Justice Outscourcing Initiatives and the Development of a Security and Management Control Outsourcing Standard; and

(2) Searching Federal Civil Fingerprint Records on Applicants in Positions of Trust; and

(3) Critique on the Draft Compliance Sanctions Rule; and

(4) FBI National Fingerprint File Qualification Requirements and Audit Criteria.

The meeting will be open to the public on a first-come, first-seated basis. Any member of the public wishing to file a written statement with the Compact Council or wishing to address this session of the Compact Council should notify Mr. Todd C. Commodore at (304) 625-2803, at least 24 hours prior to the start of the session. The notification should contain the requestor's name and corporate designation, consumer affiliation, or government designation, along with a short statement describing the topic to be addressed, and the time needed for the presentation. Requestors will ordinarily be allowed up to 15 minutes to present a topic.

DATES: The Compact Council will meet in open session from 9 a.m. until 5 p.m., on October 2-3, 2003.

ADDRESSES: The meeting will take place at the Radisson Hotel Old Town Alexandria, 901 North Fairfax Street, Alexandria, Virginia, telephone (703) 683-6000.

FOR FURTHER INFORMATION CONTACT: Inquiries may be addressed to Mr. Todd C. Commodore, FBI Compact Officer, Compact Council Office, Module C3, 1000 Custer Hollow Road, Clarksburg, West Virginia 26306-0148, telephone (304) 625-2803, facsimile (304) 625-5388.

Dated: August 15, 2003.
Monte C. Strait,
Section Chief, Programs Development Section, Criminal Justice Information Services Division, Federal Bureau of Investigation.

[FR Doc. 03-22036 Filed 8-27-03; 8:45 am]

BILLING CODE 4410-02-M